DEPARTMENT OF COMMERCE

National Oceanic and Atmospheric Administration

RIN 0648-XG304

Fisheries of the Caribbean, Gulf of Mexico, and South Atlantic; Reef Fish Fishery of Puerto Rico and the U.S. Virgin Islands; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the NMFS Panama City, FL laboratory. If granted, the EFP would authorize NMFS or NMFS contracted commercial fishers aboard their commercial fishing vessels to collect certain deep-water snapper species in waters of the U.S. exclusive economic zone (EEZ) in the Caribbean off Puerto Rico. The EFP would exempt this activity from complying with certain seasonal closures in the U.S. Caribbean EEZ. The purpose of the EFP is to gather information that could be used to define essential fish habitat (EFH) of deep-water snappers off the coast of Puerto Rico and to determine life history information for queen and blackfin snappers.

DATES: Comments must be received no later than August 15, 2018.

ADDRESSES: You may submit comments on the application by any of the following methods:

• Email: Sarah.Stephenson@noaa.gov. Include in the subject line of the email comment the following document identifier: “PR NOAA NMFS_EFP 2018”.

• Mail: Sarah Stephenson, Southeast Regional Office, NMFS, 263 13th Avenue South, St. Petersburg, FL 33701.

The EFP application and related documents are available for review upon written request to any of the above addresses.

FOR FURTHER INFORMATION CONTACT: Sarah Stephenson, 727-824-5305; email: Sarah.Stephenson@noaa.gov.

SUPPLEMENTARY INFORMATION: The EFP is requested under the authority of the Magnuson-Stevens Fishery Conservation and Management Act (16 U.S.C. 1801 et seq.), and regulations at 50 CFR 600.745(b) concerning exempted fishing.

The applicant requests authorization to collect deep-water reef fish species in the U.S. Caribbean EEZ off the west, north, and south coasts of Puerto Rico. The applicant is seeking to gather information that could be used to define essential fish habitat for deep-water snapper species off the coast of Puerto Rico, and to obtain additional life history information about queen and blackfin snapper. Specimens would be collected by NMFS researchers and/or contractors and contracted commercial fishermen aboard three commercial fishing vessels. These activities may be conducted without NMFS staff aboard the contracted vessels. Each vessel's home port is located in Puerto Rico. This permit would exempt project participants from certain seasonal and area closure regulations at 50 CFR 622.435, as identified and described below. The EFP would be effective from the date of issuance through August 1, 2020.

Activities would consist of harvesting reef fish during a total of 450 fishing trips in the 2-year project period, of which 225 would be within the U.S. Caribbean EEZ off Puerto Rico. The remaining trips would be conducted in Puerto Rico territorial waters. Sampling sites would be randomly selected from locations with a high probability of containing habitat that could be considered essential for deep-water snappers as determined by bathymetric maps recently produced by NOAA's Marine Spatial Ecology Division. The target depth range for this project is 100 to 500 m, with sampling sites selected in each 50 m depth range throughout the overall depth range.

Sampling would be conducted by hook-and-line drift fishing in deep-water habitats, with underwater cameras attached to the fishing line. On each fishing trip, three to seven sites would be fished per day based on distance between the sampling sites and weather, with an average of five sites per day at sea and an average of 15 days at sea per vessel. At each site, one vertical fishing line would be deployed from the commercial fishing vessel with a surface float and bottom weight for a 30 minute soak time. Twelve #9 hooks would be attached to the bottom 2 m of the line and manual snapper reels would be used to retrieve the line. A GoPro camera encased in a light-weight pressure-tested housing and a light would be attached to a small, neutrally buoyant fitting on the vertical line. This camera array would be attached to the fishing line at two separate points, approximately 3 m above the bottom weight.

Project activities would be conducted from September 1, 2018, through August 1, 2020. The majority of sampling would occur each year in September and October. Sampling would occur at approximately 75 sites at each of the following locations in the EEZ off Puerto Rico:

• Western region: From Isabela to Puerto Real, including Isla de Desecheo Marine Reserve, within 12 miles of any point of land in Puerto Rico, from depths of 100-500 m.

• Northeast region: From San Juan to Fajardo, extending out to Isla de Culebra, within 12 miles of any point of land in Puerto Rico, from depths of 100-500 m.

• Southeast region: From Patillas to Buena Vista, extending out to Isla de Vieques, within 12 miles of any point of land in Puerto Rico, from depths of 100-500 m.

The applicant will target queen and blackfin snappers, but anticipates encountering other species. All queen and blackfin snappers caught during the EFP would be retained, and the gonads and otoliths would be extracted for subsequent analysis by NMFS, Puerto Rico's Department of Natural and Environmental Resources, and the University of South Carolina. Length measurements would be recorded for all targeted and incidental species except for species for which harvest is prohibited under Federal law (i.e., goliath and Nassau groupers, and midnight, rainbow, and blue parrotfishes). These species would be returned immediately to the water with a minimum of harm. In order to minimize the negative biological effects of bringing these deep-water species to the surface, the commercial fishermen would have venting tools onboard their vessels to properly vent fish being released to facilitate their return to depth.

Based on catch and effort information from the commercial sector in Puerto Rico, the applicant anticipates harvesting up to 100 specimens of both queen and blackfin snappers in each of the three sampling regions, each year. Under the EFP, the applicant would be allowed to fish for and possess blackfin snapper during the October 1 through December 31 seasonal closure in place for vermilion, black, silk, or blackfin snappers (50 CFR 622.435(a)(1)(iii)). In addition, under the EFP, the applicant would be allowed to fish for and possess queen and blackfin snappers in or from the Bajo de Sico closed area, which is located in the project's western area off Puerto Rico, during the October 1 to March 31 closure period (50 CFR 622.435(a)(2)(iv)). Based on the sampling plan, the applicant anticipates making a maximum of 10 fishing trips over the 2 year period of the EFP to the Bajo de Sico closed area during the months of October through March.

Based on catch and effort information from the commercial sector in Puerto Rico, the applicant also anticipates catching up to 100 fish of the following species from each of the three sampling regions each year, as incidental catch: Black, silk, vermilion, and wenchman snappers (Snapper Unit 1); coney, graysby, red hind, and rock hind groupers (Grouper Unit 3); black, red, tiger, and yellowfin groupers (Grouper Unit 4), and misty and yellowedge groupers (Grouper Unit 5). It is possible that the applicant may also incidentally catch cardinal snapper, which is in Snapper Unit 2 with queen snapper, as they are targeting queen snapper and these species are frequently caught together.

Some of these incidental species (namely, red, black, tiger, yellowfin, yellowedge, and red hind groupers and vermilion, black, and silk snappers) are also subject to seasonal closures (50 CFR 622.435(a)(1)(i) & (ii) & (iii)). The applicant does not intend to retain any of these species caught during the respective seasonal closures. However, the EFP would allow the applicant to possess these species during those closure periods for sufficient time to collect and record length measurements, consistent with the goals of the EFP. If these species were caught outside of a closed season, the contracted commercial fishers would be able retain them, consistent with applicable law. These species also may be encountered in the Bajo de Sico closed area (50 CFR 622.435(a)(2)(iv)), and the EFP would allow the applicant to possess the species during the seasonal area closure for sufficient time to collect and record length measurements. No species caught as incidental catch during the seasonal or area closures would be retained during the EFP.

NMFS finds this application warrants further consideration based on a preliminary review. Possible conditions the agency may impose on this permit, if it is granted, include but are not limited to, a prohibition on conducting sampling activities within marine protected areas, marine sanctuaries, or special management zones, without additional authorization, and requiring compliance with best practices in the event of interactions with any protected species. NMFS may also require annual reports summarizing the amount of reef fish species harvested during the seasonal and area closures, as well as during the period of effectiveness of any issued EFP. Additionally, NMFS would require any sea turtles taken incidentally during the course of the activities to be handled with due care to prevent injury to live specimens, observed for activity, and returned to the water.

A final decision on issuance of the EFP will depend on NMFS' review of public comments received on the application, consultations with the affected state(s), the Council, and the U.S. Coast Guard, and a determination that it is consistent with all applicable laws.

Authority: 16 U.S.C. 1801 et seq.

Dated: July 10, 2018.
Margo B. Schulze-Haugen,
Acting Director, Office of Sustainable Fisheries, National Marine Fisheries Service.

[FR Doc. 2018-15074 Filed 7-13-18; 8:45 am]

BILLING CODE 3510-22-P